DEPARTMENT OF COMMERCE

National Oceanic and Atmospheric Administration

[I.D. 083006E]

Western Pacific Fishery Management Council; Public Meeting

AGENCY: National Marine Fisheries Service (NMFS), National Oceanic and Atmospheric Administration (NOAA), Commerce.

ACTION: Notice of a public meeting.

SUMMARY: The Western Pacific Fishery Management Council (Council) will hold a meeting of the Hawaii members of the Council's Bottomfish Plan Team (BPT).

DATES: The meeting of the BPT will be held on September 27, 2006, from 9 a.m. to 4 p.m.

ADDRESSES: The meeting of the Hawaii BPT will be held at the Western Pacific Fishery Management Council conference room, 1164 Bishop Street, Suite 1400, Hololulu, HI.

FOR FURTHER INFORMATION CONTACT: Kitty M. Simonds, Executive Director; telephone: (808) 522-8220.

SUPPLEMENTARY INFORMATION: The BPT will meet on September 27, 2006, to discuss the following agenda items:

1. Introductions, approval of draft agenda and assignment of rapporteurs

2. Report on Fishery Independent Research Workshop

3. Report on Bottomfish Stock Assessment

4. Status of the Stock Report

5. Separation of Guam Bottomfish Management Unit Species (BMUS) catch per unit effort (CPUE) data into deep, shallow and combined

6. Plan Team Recommendations

7. Other Business

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

This meeting is physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 31, 2006.
Tracey L. Thompson,
Acting Director, Office of Sustainable Fisheries, National Marine Fisheries Service.

[FR Doc. E6-14679 Filed 9-5-06; 8:45 am]

BILLING CODE 3510-22-S